DEPARTMENT OF TRANSPORTATION

Surface Transportation Board

[STB Section 5a Application No. 1 (Amendment No. 11)]

Household Goods Carriers' Bureau Committee

By application filed on March 5, 2001, the Household Goods Carriers' Bureau Committee (HGCBC) seeks approval of minor amendments to its collective ratemaking agreement.¹ HGCBC is part of the American Moving & Storage Association (AMSA), but HGCBC's regulated activities are conducted autonomously of AMSA. HGCBC proposes to modify Article 3 of its agreement, to provide for: (1) A procedure whereby HGCBC's Board could revoke the membership of HGCBC carriers, and their participation in bureau tariffs, pursuant to Article IV, Section 9, of the bylaws of AMSA (which allows termination of AMSA membership for violation of its bylaws or its Certified Mover and Van Line Program Code of Conduct, or for engaging in any other conduct that is prejudicial to the interests of AMSA); (2) automatic removal of a carrier's membership if the carrier's operating authority is revoked by the federal government; and (3) non-substantive changes in the wording and the enumeration of sections of Article 3.

¹ HGCBC's agreement was last modified under former 49 U.S.C. 10706(b), the predecessor to 49 U.S.C. 13703, in Household Goods Carriers' Bureau Agreement, Section 5a Application No. 1 (Amendment No. 9) (ICC served July 7, 1993). HGCBC applied for renewal of its agreement in Household Goods Carriers' Bureau Agreement, Section 5a Application No. 1 (Amendment No. 10), which is pending before the Board.

An original and 10 copies of any comments, referring to STB Section 5a Application No. 1 (Amendment No. 11), must be sent to: Surface Transportation Board, Office of the Secretary, Case Control Unit, Attn: STB Section 5a Application No. 1 (Amendment No. 11), 1925 K Street, NW., Washington, DC 20423-0001. One copy of any comments filed with the Board must also be served on applicant's representative: Thomas M. Auchincloss, Jr., Rea, Cross & Auchincloss, 1707 L Street, NW., Washington, DC 20036.

To allow members of the public to obtain a copy of the application without traveling to the Board's office, HGCBC is required to provide a copy on request.

Comments must be filed with the Surface Transportation Board by July 30, 2001. HGCBC's reply to any comments is due by August 27, 2001.

For more information, contact: Joseph H. Dettmar, (202) 565-1600. [TDD for the hearing impaired: 1-800-877-8339.]

Board decisions and notices are available on our website at “WWW.STB.DOT.GOV.” See our served decision approving the application pending analysis of any comments.

Decided: June 21, 2001.
By the Board, Chairman Morgan, Vice Chairman Clyburn, and Commissioner Burkes.
Vernon A. Williams,
Secretary.

[FR Doc. 01-16148 Filed 6-27-01; 8:45 am]

BILLING CODE 4915-00-P